DEPARTMENT OF TRANSPORTATION

Federal Aviation Administration

Thirty Fifth RTCA SC-213 Joint Plenary With EUROCAE WG-79

AGENCY: Federal Aviation Administration (FAA), U.S. Department of Transportation (DOT).

ACTION: Thirty Fifth RTCA SC-213 Joint Plenary with EUROCAE WG-79.

SUMMARY: The FAA is issuing this notice to advise the public of a meeting of Thirty Fifth RTCA SC-213 Joint Plenary with EUROCAE WG-79. SC-213 is a subcommittee to RTCA.

DATES: October 18-19, 2017.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty Fifth RTCA SC-213 joint Plenary with EUROCAE WG-79. The agenda will include the following:

October 18, 2017

1. Day 1: Plenary discussion

2. Introductions and administrative items

3. DFO statement

4. Review and approve minutes from last full plenary meeting

5. Review of terms of reference and update work product dates

6. RTCA presentation on the FRAC process

7. WG1, WG2, WG3 and WG4 status updates

8. Industry updates

9. Working group discussion

October 19, 2017

10. Discuss initiating Open Consultation/Final review and comment for: Safety and Performance Requirements (SPR) for Vision Systems for Takeoff

11. Discuss initiating Open Consultation/Final review and comment for: Minimum Aviation System Performance Standards (MASPS) for a Combined Vision Guidance System for Rotorcraft Operations

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 25, 2017.
Mohannad Dawoud,
Management & Program Analyst, Partnership Contracts Branch, ANG-A17, NextGen, Procurement Services Division, Federal Aviation Administration.

[FR Doc. 2017-20867 Filed 9-28-17; 8:45 am]

BILLING CODE 4910-13-P